FEDERAL COMMUNICATIONS COMMISSION

[FR ID 226690]

Radio Broadcasting Services; AM or FM Proposals To Change the Community of License

AGENCY: Federal Communications Commission.

ACTION: Notice.

DATES: The agency must receive comments on or before August 23, 2024.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The Media Bureau shall provide notice in the Federal Register that an application to modify an AM or FM station's community of license has been filed. See 71 FR 76208, 76211 (published December 20, 2006). The following applicants filed AM or FM proposals to change the community of license: UM ENTERPRISE, LLC, WTOF(AM), FAC. ID NO. 24653, FROM: BAY MINETTE, AL, TO: SPANISH FORT, AL, FILE NO. 0000243353; DIVINE MERCY RADIO, INC, WPJL(AM), FAC. ID NO. 73884, FROM: RALEIGH, NC, TO: KNIGHTDALE, NC, FILE NO. 0000246144; CHRISTINA BENAVIDES, KAMZ(FM), FAC. ID NO. 77643, FROM: TAHOKA, TX, TO: WOLFFORTH, TX, FILE NO. 0000243225; CEDAR COVE BROADCASTING, INC., KJAR(FM), FAC. ID NO. 768664, FROM: LARAMIE, WY, TO: ELK MOUNTAIN, WY, FILE NO. 0000245023; NOEMY RODRIGUEZ, KZJJ(FM), FAC. ID NO. 203618, FROM: MESA, WA, TO: WEST RICHLAND, WA, FILE NO. 0000244739; AND RADIO LICENSE HOLDING CBC, LLC, WRBO(FM), FAC. ID NO. 7075, FROM: COMO, MS, TO: GERMANTOWN, TN, FILE NO. 0000244037. The full text of these applications is available electronically via Licensing and Management System (LMS), https://apps2int.fcc.gov/dataentry/public/tv/publicAppSearch.html.

Federal Communications Commission.
Nazifa Sawez,
Assistant Chief, Audio Division, Media Bureau.

[FR Doc. 2024-13626 Filed 6-21-24; 8:45 am]

BILLING CODE 6712-01-P